NUCLEAR REGULATORY COMMISSION

[NRC-2010-0029; Docket No. 50-397]

Energy Northwest; Notice of Receipt and Availability of Application for Renewal of Columbia Generating Station Facility Operating License No. NPF-21 for an Additional 20-Year Period

The U.S. Nuclear Regulatory Commission (NRC or Commission) has received an application, dated January 19, 2010, from Energy Northwest (EN), filed pursuant to Section 103 of the Atomic Energy Act of 1954, as amended, and Title 10 of the Code of Federal Regulations Part 54 (10 CFR part 54), to renew the operating license for the Columbia Generating Station (CGS). Renewal of the license would authorize the applicant to operate the facility for an additional 20-year period beyond the period specified in the current operating license. The current operating license for CGS (NPF-21), expires on December 20, 2023. CGS is a boiling-water reactor designed by Burns & Roe. CGS is located 12 miles north of Richland, WA. The acceptability of the tendered application for docketing, and other matters, including an opportunity to request a hearing, will be the subject of subsequent Federal Register notices.

Copies of the application are available to the public at the Commission's Public Document Room (PDR), located at One White Flint North, 11555 Rockville Pike, Rockville, MD 20852 or through the Internet from the NRC's Agencywide Documents Access and Management System (ADAMS) Public Electronic Reading Room under Accession Number ML100250668. The ADAMS Public Electronic Reading Room is accessible from the NRC Web site at http://www.nrc.gov/reading-rm/adams.html. In addition, the application is available at http://www.nrc.gov/reactors/operating/licensing/renewal/applications.html. Persons who do not have access to the Internet or who encounter problems in accessing the documents located in ADAMS should contact the NRC's PDR reference staff at 1-800-397-4209, extension 4737, or by e-mail to pdr.resource@nrc.gov.

A copy of the license renewal application for CGS is also available to local residents near the site at the Richland Public Library, 955 Northgate Drive, Richland, WA 99352 and at the Kennewick Branch of Mid-Columbia Libraries, 1620 South Union Street, Kennewick, WA 99338.

Dated at Rockville, Maryland, this 26th day of January 2010.
For the Nuclear Regulatory Commission.
Brian E. Holian,
Director, Division of License Renewal, Office of Nuclear Reactor Regulation.

[FR Doc. 2010-2175 Filed 2-1-10; 8:45 am]

BILLING CODE 7590-01-P